DEPARTMENT OF STATE

[Public Notice: 11940]

Private Sector Participation in Domestic and International Events on Spaceflight Safety, Sustainability, and Emerging Markets in Outer Space

ACTION: Notice.

SUMMARY: The U.S. Department of State seeks private sector participation in a series of domestic and international events promoting space commerce as well as implementation of best practices for the peaceful uses of outer space for civil and commercial activities in a safe and responsible manner. These events and the participation of the commercial space sector, academia and other non-governmental organizations will assist the Department of State in fulfilling its responsibilities pursuant to the 2020 National Space Policy and the 2021 United States Space Priorities Framework.

DATES: Participants will serve as private sector advisors to U.S. delegations to one or more workshops, meetings, symposia, and other international events related to safety, sustainability, and emerging markets in outer space until December 31, 2023.

ADDRESSES: Solicitations for private sector participation in specific events, including event dates and locations, will be posted at least 30 days prior to the event on https://www.state.gov/remarks-and-releases-bureau-of-oceans-and-international-environmental-and-scientific-affairs/.

FOR FURTHER INFORMATION CONTACT: Ryan Guglietta, Foreign Affairs Officer, Office of Space Affairs, Bureau of Oceans and International Environmental and Scientific Affairs, Department of State, Washington, DC 20522, phone 860-573-0708, or email gugliettart@state.gov.

SUPPLEMENTARY INFORMATION: Events will vary in location and format, to include fully online, hybrid, and in-person activities. Short notice modification of plans may be required in response to pandemic precautions. Meetings may be stand alone or on the margins of related events, which may include, but are not limited to, the United Nations Committee on the Peaceful Uses of Outer Space (UNCOPUOS) Scientific and Technical Subcommittee (STSC) in Vienna in February 2023, the UNCOPUOS Legal Subcommittee (LSC) in Vienna in March 2023, the UNCOPUOS plenary in Vienna in June 2023, and workshops, conferences, or other meetings organized by the UN Office of Outer Space Affairs. There may also be additional opportunities to provide expert views related to domestic policies and U.S. positions in other international diplomatic fora. Please note that approximately two to four applicants are expected to be selected for each UNCOPUOS meeting, depending on the size of the overall U.S. delegation. Participants should focus on the following:

Safety: Identify key safety issues for crewed and/or uncrewed outer space operations. Discuss current attempts to address these issues and suggest new concerns that may develop as private sector space activities advance and evolve.

Sustainability: Explore efforts to promote responsible behavior in space. Examine best practices and guidelines aimed at preserving the outer space environment for future space investment, exploration and use. In particular, implementation of the 2019 UNCOPUOS Long-Term Sustainability (LTS) guidelines and the multi-nation Artemis Accords should be considered.

Emerging Markets: Discuss the challenges to an economically viable space industry and how these challenges relate to the domestic regulatory and international governance frameworks. Share recent advances within the commercial space sector and how they may develop in the future. Evaluate how an expanding commercial sector may affect equities like terrestrial based astronomy, planetary protection, orbital debris mitigation, and other aspects of safe and sustainable operations in outer space.

Valda Vikmanis-Keller,
Director, Office of Space Affairs, Department of State.

[FR Doc. 2022-27621 Filed 12-19-22; 8:45 am]

BILLING CODE 4710-05-P